DEPARTMENT OF HEALTH AND HUMAN SERVICES

Centers for Medicare & Medicaid Services

42 CFR Parts 410 and 419

[CMS-1471-CN]

RIN 0938-AL19

Medicare Program; Medicare Program; Changes to the Hospital Outpatient Prospective Payment System and Calendar Year 2004 Payment Rates; Final Rule; Correction

AGENCY: Centers for Medicare & Medicaid Services (CMS), HHS.

ACTION: Correction of final rule with comment period.

SUMMARY: This document corrects errors in the final rule with comment period that appeared in the Federal Register on November 7, 2003, entitled “Medicare Program; Changes to the Hospital Outpatient Prospective Payment System and Calendar Year 2004 Payment Rates; Final Rule.” This notice is a supplement to the November 7, 2003 final rule and is completely separate from any notice that promulgates new policy that results from enactment of the Medicare Prescription Drug, Improvement, and Modernization Act of 2003.

EFFECTIVE DATE: January 1, 2004.

FOR FURTHER INFORMATION CONTACT: Dana Burley, (410) 786-0378.

SUPPLEMENTARY INFORMATION:

I. Background

In FR Doc. 03-27791 of November 7, 2003 (68 FR 63398), there were several technical errors as well as a number of public comments that were received timely, but that we inadvertently failed to address. The errors include incorrect or potentially misleading responses, and in Addenda A and B, omissions and typographical errors. In addition, we are adding information to the addenda that was not available when we published the final rule. This additional information does not affect payment under the hospital outpatient prospective payment system (OPPS). We ordinarily provide a 30-day delay in the effective date of the provisions of a notice. Section 553(d) of the Administrative Procedure Act (5 U.S.C. 553(d)) ordinarily requires a 30-day delay in the effective date of final rules after the date of their publication in the Federal Register. This 30-day delay in effective date can be waived, however, if an agency finds good cause that the delay is impracticable, unnecessary, or contrary to the public interest, and the agency incorporates a statement of the finding and its reasons in the notice issued. In addition, section 1871(e)(1) of the Social Security Act, as amended by section 903(b)(1) of the Medicare Prescription Drug, Improvement, and Modernization Act of 2003 (DIMA), also requires that a substantive change in a regulation shall not become effective before the end of the 30-day period that begins on the date that the Secretary has issued or published the substantive change. Section 1871(e)(1) of the Social Security Act, as amended by section 903(b)(1) of DIMA, provides an exception to that requirement if the Secretary finds that the waiver of such 30-day period is necessary to comply with statutory requirements or that the application of such 30-day period is contrary to the public interest. We find good cause to waive the 30-day delay in effective date for this correction notice as set forth in section III, “Waiver of 30-Day Delay in Effective Date,” below.

II. Correction of Errors

A. Correction of Inaccurate Information

On page 63423, first column, fifth sentence, we stated: “The case of APC 0108, we used the external device cost data that was used to set the median for the 2003 OPPS because we received no outside data for the 2004 OPPS for this APC and because the proposed median of $28,685.30 set forth in the proposed rule was considerably higher than the final rule data median of $23,944.80, which resulted when additional claims were used to calculate the median cost.”

We subsequently determined that external data that met our preferred criteria for use in setting payment rates had been furnished as part of a timely, properly submitted comment for APC 0108. Therefore, we have revised the median cost and payment rate ($23,641.27) that was in the final rule for this APC using the data submitted in the comment. The new payment rate is $24,699.74. See Table 1 below for the complete revised values information.

To correct this error, we remove the fifth sentence in column 1 on page 63423 and replace it with the following: “In the case of APC 0108, we used external device cost data submitted in a comment on the proposed rule to set the median for the 2004 OPPS. The proposed median of $28,685.30 set forth in the proposed rule was considerably higher than the median calculated for the final rule, $23,944.80, which resulted when additional claims were used to calculate the median cost. The use of this external data raised the payment rate to a level we believe is more appropriate.”

B. Responses to Comments Not Included in the Final Rule

Bone Marrow Harvesting

Comment: A commenter asserted that the claims data for Physicians' Current Procedural Terminology (CPT) codes 38230 (bone marrow harvesting), 38240 (bone marrow/stem cell transplantation, allogenic), and 38241 (bone marrow/stem cell transplantation, autologous) are seriously flawed. For instance, the median cost for CPT code 38230 (using data for 35 claims) was $74.81. The commenter stated that CPT code 38230 involves a 60-90 minute operating room procedure performed under general anesthesia, with costs more closely approaching the payment rate for APC 0111 (paying $718.67) than APC 0123 (paying $288.53), its current APC placement. The commenter expressed similar concern over the claims data for CPT codes 38240 and 38241, asserting that their placement in APC 0123 results in inadequate payment to cover the costs of bone marrow and stem cell transplantation.

The commenter urged us to move CPT codes 38230, 38240, and 38241 from APC 0123 (bone marrow harvesting/stem cell transplant, paying $288.53) to APC 0111 (blood product exchange, paying $718.67).

Response: We agree with the commenter that the claims data for CPT code 38230 appear to be based on flawed claims. We believe that the costs involved in performing CPT code 38230 (bone marrow harvesting) are more similar to the costs involved in performing CPT codes 38205 and 38206 (stem cell harvesting, placed in APC 0111); therefore, we will move CPT code 38230 from APC 0123 to APC 0111. We will maintain the payment rate for APC 0111 at $718.67 as stated in the November 7, 2003 final rule, since we believe the claims for CPT code 38230 represent aberrant data and should not be used to recalculate the payment rate for APC 0111.

In contrast, we do not believe that the claims data for CPT codes 38240 and 38241 are flawed. The resource utilization of performing bone marrow and stem cell transplantations is similar to the resource utilization of performing infusion therapy services (which are paid $210 in APC 0110), since bone marrow and stem cell transplantations involve no incision and no unusual instruments or equipment. Therefore, we believe that the APC placement of CPT codes 38240 and 38241 in APC 0123 sufficiently captures the costs involved in performing these services. Although these codes will remain in APC 0123, their payment rate in APC 0123 will increase by $47.01 (from $288.53 to $335.54) above the rate stated in the November 7, 2003 final rule, as a result of moving CPT code 38230 out of APC 0123 and recalculating the median for APC 0123 based on CPT codes 38240 and 38241 that remain in APC 0123.

Cobalt 60-Based Stereotactic Radiosurgery

Comment: A commenter requested that we combine CPT codes G0242 (Cobalt 60-based stereotactic radiosurgery plan) and G0243 (Cobalt 60-based stereotactic radiosurgery delivery). The commenter explained that, before 2000, we allowed Cobalt 60-based stereotactic radiosurgery to be appropriately billed using CPT code 61793 (stereotactic radiosurgery—particle beam, gamma ray or linear accelerator—one or more sessions), the same code that non-Medicare payers continue to use for this procedure. However, our current guidelines for coding this procedure necessitate the billing of two codes (planning and delivery), and therefore, correct billing of this treatment using the current codes results in a multiple procedure claim. The commenter asserted that because we calculate medians using only single claims, the APC placement of Healthcare Common Procedure Coding System (HCPCS) codes G0242 and G0243 was based on aberrant single claims.

The commenter requested that these codes (G0242 and G0243) be combined into a single procedure code (that is, CPT code 61793) in order for us to accurately capture the costs of this treatment in a single claim because both parts of this treatment (planning and delivery) are always delivered on the same day in one surgical procedure. Based on resource consumption and clinical homogeneity, the commenter suggested that we place this single procedure code in one of the following APCs: 0222 (paying $12,670), 0226 (paying $7,437), or 0227 (paying $8,775).

Response: In addition to the above comment, we received several other comments stating that HCPCS code G0242 (Cobalt 60-based stereotactic radiosurgery plan) was being used inappropriately for linear accelerator-based stereotactic radiosurgery (SRS) planning in addition to Cobalt 60-based SRS planning, due to the nonexistence of a code to bill for linear accelerator-based SRS planning. Considering the current misuse of HCPCS code G0242 and the potential for causing greater confusion by combining CPT codes G0242 and G0243, we created a planning code for linear accelerator-based SRS (G0338) to distinguish this procedure from Cobalt 60-based SRS planning. Since the claims data for G0242 represent costs for linear accelerator-based SRS planning (due to misuse of the code) in addition to Cobalt 60-based SRS planning, we are uncertain of how to combine these data with G0243 (Cobalt 60-based SRS delivery) to determine an accurate payment rate for a combined code for planning and delivery of Cobalt 60-based SRS. Therefore, we will solicit input from the APC Panel at its next meeting in early 2004.

In the meantime, we will maintain two separate HCPCS codes (G0242 and G0243) for the planning and delivery of Cobalt 60-based SRS treatment, consistent with the use of two G codes for the planning (G0338) and delivery (G0173, G0251, G0339, G0340, as applicable) of each type of linear accelerator-based SRS treatment, as described below.

Correct Coding for Various Types of Stereotactic Radiosurgery (SRS):

• Cobalt 60-based, multi-source SRS—

Planning—G0242 (APC 1516 paying $1,450)

Delivery—G0243 (APC 1528 paying $5,250)

• Linear accelerator-based SRS—

Non-robotic linear accelerator-based SRS (complete session)

—Planning—G0338 (APC 1516 paying $1,450)

—Delivery—G0173 (APC 1528 paying $5,250)

Non-robotic linear accelerator-based SRS (fractionated sessions)

—Planning—G0338 (APC 1516 paying $1,450)

—Delivery—G0251 (APC 1513 paying $1,150, per session)

Image-guided robotic linear accelerator-based SRS (complete session or first session of fractionated treatment)—

—Planning—G0338 (APC 1516 paying $1,450)

—Delivery—G0339 (APC 1528 paying $5,250)

Image-guided robotic linear accelerator-based SRS (fractionated treatment, 2nd—5th sessions)—

—Planning—G0338 (APC 1516 paying $1,450)

—Delivery—G0340 (APC 1525 paying $3,750, per session)

Comment: A commenter urged us to recognize the cost and clinical differences between HCPCS codes G0243 and G0173 by placing them in separate APCs.

Response: We believe that the low volume of single claims for HCPCS code G0243 (172 single claims out of 1,033 total claims = 17 percent of total claims) does not substantiate movement of this code into a procedural APC at this time, and there is no clinical reason for a reassignment. Therefore, we will keep HCPCS code G0243 in new technology APC 1528 with a payment of $5,250 for CY 2004.

ProstacScint

Comment: The manufacturer of ProstaScint (indium capromab pendetide), a diagnostic agent used for the imaging of prostate cancer, indicated that this product's proposed payment rate is significantly below the cost that hospitals incur in acquiring ProstaScint. The manufacturer stated that reduced payment would restrict hospitals from providing ProstaScint studies to Medicare beneficiaries and have a significant negative effect on the treatment and outcomes of patients at risk for prostate cancer. The commenter submitted a survey of hospitals demonstrating their costs of purchasing ProstaScint.

Response: We agree with the commenter that the use of only hospital claims data to set the payment rate for ProstaScint may adversely impact beneficiary access. We believe that the external data submitted by the manufacturer meets our preferred criteria; therefore, we will use the external data to establish an adjusted median cost for this product by blending the median cost derived from our dampening methodology with the external cost data on a one-to-one ratio.

APC | HCPCS | Short descriptor | 2004 adjusted median cost | External acquisition cost | 2004 1:1 Blended median cost
1604 | A9507 | Indium/111 capromab pendetide | $726.50 | $1,610.75 | $1,168.63

Arthroscopy

Comment: One commenter requested that we assign CPT code 29827 to APC 0042 (Level II Arthroscopy). The code was new for 2003 and was assigned to APC 0041 (Level I Arthroscopy). The commenter provided information to support the assertion that the procedure described by CPT code 29827 is very similar to that described by CPT code 29826 with regard to operating room time required, equipment requirements, and complexity. However, procedures coded as CPT code 29826 are assigned to APC 0042.

Response: Our medical staff evaluated this request and decided that they would like the advice of the APC Panel before making a determination. In their analysis of the assignments for CPT codes 29826 and 29827, they determined that it would be appropriate to solicit input from the APC Panel regarding the clinical coherence of both APCs 0041 and 0042. The APC Panel will meet in early 2004, and we plan to include these APCs on the agenda for its consideration. The date for the APC Panel meeting and registration information will be published in the Federal Register and on the CMS OPPS Web site at least 60 days before the meeting date.

Photoselective Vaporization of the Prostate

Comment: Several commenters urged us to increase payment for CPT codes 52647 and 52648 (photoselective vaporization of the prostate (PVP)). They expressed concern that other less effective procedures requiring less skill have a significantly higher proposed payment rate. Commenters stated that the proposed payment rate for PVP under APC 0163 does not cover the costs of providing access to this new technology.

Response: Based on our claims data, we believe that CPT codes 52647 and 52648 are appropriately placed in APC 0163 for CY 2004, but the commenters may want to consider applying for a new CPT/HCPCS code for this procedure so that it is identifiable separately from other procedures. Alternatively, PVP may be a candidate for consideration under the OPPS new technology process. We refer interested parties to our Web site www.cms.hhs.gov/providers/hopps/ for further information on the new technology application and evaluation process.

Inpatient-Only List

Comment: We received a comment requesting that we remove several codes from the inpatient-only list. The codes are: 44901 (Incision and drainage of appendiceal abscess; percutaneous); 49021 (Drainage of peritoneal abscess or localized peritonitis, exclusive of appendiceal abscess; percutaneous); 49041 (Drainage of subdiaphragmatic or subphrenic abscess; percutaneous); and 49061 (Drainage of retroperitoneal abscess; percutaneous). The commenters based their request on the fact that codes they believe are similar to 44901, 49021, 49041, and 49061 are not on the inpatient-only list. Codes that they used as examples included 32201 (Pneumonostomy; with percutaneous drainage of abscess or cyst); and 50021 (Drainage of perirenal or renal abscess; percutaneous).

Response: The information provided by the commenter did not provide an adequate basis for our medical staff to make a decision. Instead, our physicians will solicit input from additional specialty groups that provide care to the patients undergoing these procedures. We will also present this issue to the APC Panel for consideration at its next meeting in early 2004.

Neutron Radiotherapy

Comment: We received a comment requesting that we create a new “G” code for neutron radiotherapy so that these procedures can be assigned to a new APC. At this time, the procedures are coded using a CPT code that includes other procedures that the commenter does not believe are related to neutron radiotherapy. The commenter believes the combination of procedures in the CPT code is inappropriate.

Response: We evaluated this request and continue to believe that the current coding is appropriate. We do not believe that creation of a new “G” code is warranted in this case because there is a CPT code that specifically describes this procedure.

Magnetic Resonance Imaging and Magnetic Resonance Angiography

Comment: We received a comment requesting that we assign magnetic resonance imaging and magnetic resonance angiography to separate APCs. These procedures are currently assigned to APCs 0336 and 0337.

Response: We evaluated this request and continue to believe that the current assignments are appropriate and result in accurate payment for the procedures.

Fetal Echocardiogram

Comment: We received one comment requesting that we reassign codes for fetal echocardiograms (CPT 76825 through 76827) to APC 0269. The codes are currently assigned to APCs 0671 and 0697.

Response: We believe that the APC assignments for these CPT codes continue to be appropriate. We used most of the submitted claims for calculating medians for these codes. We believe the resource use and clinical coherence in the current APCs are appropriate.

New Orphan Drug

Comment: We received a comment requesting that arsenic trioxide (Trisenox) be considered as a single-indication orphan drug for Medicare OPPS. The drug has orphan status from the FDA for treatment of multiple myeloma, myelodysplastic syndrome, chronic myeloid leukemia, and chronic lymphocystic anemia.

Response: After careful evaluation, we agree that arsenic trioxide does meet our criteria for special payment as a single indication orphan drug. As we stated in our final rule (68 FR 63453), we are setting payment under the 2004 OPPS for single indication orphan drugs at 88 percent of the average wholesale price listed for these drugs in the April 1, 2003 single drug pricer unless we are presented with verifiable information that shows that our payment rate does not reflect the price that is widely available to the hospital market. For 2004, the payment rate for Trisenox will be $34.32 per unit.

C. Revisions and Corrections to Addenda A and B

As a result of a HCPCS coding change, the relative weight, payment rate, and minimum unadjusted copayment for APC 0012 as published on page 63478, are incorrect. Code 11057 moved from APC 0012 to APC 0013, and we failed to update the APCs in time for the final rule. The correct values for APC 0012 are: relative weight, 0.7612; payment rate, $41.53; and minimum unadjusted copayment amount, $8.31. The correct values for APC 0013 are relative weight, 1.1302; payment rate, $61.66; and the minimum unadjusted copayment is unchanged. These values are listed in bold type in Table 1 below.

As a result of our use of external data, APC 0108 has new values in Addendum A on page 63479. The correct relative weight is 452.6995, the payment rate increases to $24,669.74, and the minimum unadjusted copayment becomes $4,939.95. These values are listed in bold type in Table 1 below.

In response to a comment, we moved HCPCS code 43752 from APC 0272 to APC 0121. This move resulted in new Addendum A values for both of these APCs. The incorrect values on page 63479 for APC 0121 are corrected as follows: relative weight, 2.1114; payment rate, $115.2; and minimum unadjusted copayment amount, $23.04.

On page 63481, the incorrect values for APC 0272 are corrected as follows: relative weight, 1.4184; payment rate, $77.39; and minimum unadjusted copayment, $15.48.

In response to a comment that we overlooked, we moved CPT code 38230 from APC 0123 to APC 0111. This resulted in new values for APC 0123 in Addendum A. The values on page 63479 are corrected as follows: relative weight, 6.1499; payment rate, $335.54; and minimum unadjusted copayment amount, $67.11. There are no changes to the values for APC 0111. These values are listed in bold type in Table 1 below.

On page 63482, the values for APC 0321 are incorrect due to a change in the status indicator for HCPCS code 90901. The status indicator was changed to “A” and, therefore, does not contribute to the calculation of the APC median. We correct the values for APC 0321 by replacing the values on page 63482 with the following: relative weight, 1.4817; payment rate, $80.84; and minimum unadjusted copayment amount, $16.17. These values are listed in bold type in Table 1 below.

The status indicator for HCPCS code 96105 was changed to “A” and, therefore, should not contribute to the calculation of the APC median. The values for APC 0373 on page 63482 are incorrect because the code (96105) was used under its previous status indicator “X” and was therefore included in the media calculation. We replace the values in Addendum A on page 63482 with the following correct values: relative weight, 2.3288; payment rate, $127.06; and minimum unadjusted copayment amount, $25.41. These values are listed in bold type in Table 1 below.

The relative weight, copayment and payment rates are incorrect for APC 0384 as published on page 63482. Two HCPCS codes (43268 and 43269) were moved from APC 0151 into APC 0384, and those changes were not reflected in the published Addendum A. We replace the values for APC 0384 with the following: relative weight, 36.54; payment rate, $1,993.66; national unadjusted copayment, $433.01; and minimum unadjusted copayment, $398.73. The values for APC 0151 do not change. These values are listed in bold type in Table 1 below.

APC 0413 was listed in Addendum A on page 63483 in error. No codes are assigned to this APC, so it no longer exists. We remove APC 0413.

We correct Addenda A and B by adding the relative weight for APC 0734 on page 63484 in Addendum A and for CPT/HCPCS codes C1774 and Q0137 on pages 63610 and 36350, respectively, in Addendum B. The relative weight is 0.0594 for both of these codes.

The values for APC 1604 are incorrect as published on page 63486. Additional data were available but inadvertently were not used in the median calculation for this APC. The new values reflect use of the additional data. We correct the values for APC 1604 as follows: relative weight, 20.2752; payment rate, $1,106.24; and minimum unadjusted copayment, $221.25. These values are listed in bold type in Table 1 below.

On page 63487, the payment rate for APC 9012 is corrected to reflect its new status as a single-indication orphan drug. We correct the payment rate to $34.32 and the minimum unadjusted copayment to $6.86.

On page 63488, the descriptor for APC 9116 is incorrect. We correct it to read “Inj. Ertapenem sodium, per 500 mg.”

For the following CPT/HCPCS codes on the pages identified, beginning on page 63488 and concluding on page 63644, we listed outdated descriptors. We correct the descriptor on page 63488 for code 0002T; page 63496 for code 15852; page 63548 for code 55870; page 63619 for code E0141; page 63622 for codes E0973 and E0974; page 63623 for code E0978; page 63624 for code E1226; page 63627 for codes G0210, G0213, G0214, G0215, G0230, G0246, G0247, G0248; page 63630 for code J1563; page 63631 for codes J2260 and J2324; page 63633 for code J8700; page 63636 for code K0560; page 63637 for codes K0600, K0607, K0614, K0615, K0616, and K0617; page 63643 for codes L4350, L4360, and L4386; and on page 63644 for codes L5646 and L5648. See Table 2—Corrections to Addendum B of the November 7, 2003, Final Rule for corrections to Addendum B for the codes identified above.

On page 63627, CPT/HCPCS G0244 is listed with an incorrect relative weight, payment rate, and copayment amount. We correct the current relative weight, payment rate, and copayment, by inserting 6.6961, $365.35, and $73.07, respectively. See Table 2 below for the corrected values.

On page 63634, CPT/HCPCS J9017 is listed with an incorrect relative weight, payment rate, and copayment. J9017 is an orphan drug and is reimbursed at 88 percent of AWP. We correct the addendum by replacing current values with a payment rate of $34.32 and minimum unadjusted copayment of $6.86.

On page 63590, we incorrectly assigned status indicator A to CPT/HCPCS 90918 through 90925. These codes are replaced by G0320 through G0327. Therefore, codes 90918 through 90925 are assigned status indicator E. On page 63590, for CPT/HCPCS 90918, 90919, 90920, 90921, 90922, 90924, and 90925, we remove the status indicator A and insert status indicator E. See Table 2—Corrections to Addendum B of the November 7, 2003, Final Rule for corrections to Addendum B for the codes identified above.

The following CPT/HCPCS codes were omitted from Addendum B of the November 7, 2003, final rule: 99375, status indicator E, home health care supervision, effective 1/1/03; 99378, status indicator E, hospice care supervision, effective 1/1/03; G0308, status indicator A, condition NI, ESRD related svc 4+mo<2yrs; G0309, status indicator A, condition NI, ESRD related svc 2-3mo<2rs; G0310, status indicator A, condition NI, ESRD related svc 1vst<2yr; G0311, status indicator A, condition NI, ESRD related svs 4+mo 2-11 yr; G0312, status indicator A, condition NI, ESRD related svs 2-3 mo 2-11 yr; G0313, status indicator A, condition NI, ESRD related svs 1 mon 2-11 yr; G0314, status indicator A, condition NI, ESRD related svs 4+mo 12-19; G0315, status indicator A, condition NI, ESRD related svs 2-3 mo 12-19; G0316, status indicator A, condition NI, ESRD related svs 1 vst 12-19y; G0317, status indicator A, condition NI, ESRD related svs 4+mo 20+yrs; G0318, status indicator A, condition NI, ESRD related svs 2-3 mo 20+y; G0319, status indicator A, condition NI, ESRD related svs 1 visit 20+y; G0320, status indicator A, condition NI, ESRD related svs home under 2; G0321, status indicator A, condition NI, ESRD related svs home mo<2ys; G0322, status indicator A, condition NI, ESRD related svs home mo12-19; G0328, status indicator A, condition NI, fecal blood scrn immunoassay; all effective 1/1/04; and P9603, status indicator A, One-way allow prorated miles, effective 1/1/92. See Table 2—Corrections to Addendum B of the November 7, 2003, Final Rule for corrections to Addendum B for the codes identified above.

On page 63608, we incorrectly assigned status indicator B and condition NI to CPT/HCPCS A9527, I-131 tositumomab therapeutic. New code A9534, with the same descriptor, replaces A9527, effective 1/1/04. A9527 is removed effective 1/1/04, with no grace period. On page 63608, for CPT/HCPCS A9527, we remove the status indicator of B and insert a status indicator of D. We remove the condition NI and insert a condition of DNG. See Table 2—Corrections to Addendum B of the November 7, 2003, Final Rule for corrections to Addendum B for the code identified above.

For the CPT/HCPCS codes on the pages identified, beginning on page 63490 and concluding on page 63653, we incorrectly listed status indicator E instead of status indicator B. We correct the status indicator on page 63490 for codes 0054T, 0055T, 0056T, 0057T, 0060T, and 0061T; page 63598 for codes 99002 and 99140; page 63604 for codes A4671, A4672, and A4673; page 63605 for codes A4674 and A4728; page 63624 for code E1634; page 63633 for J7330; page 63641 for L3350; and page 63653 for code V2761. See Table 2—Corrections to Addendum B of the November 7, 2003, Final Rule for corrections to Addendum B for the codes identified above.

For the following CPT/HCPCS codes on the pages identified, beginning on page 63490 and concluding on page 63619, we incorrectly listed condition DG (deleted with grace). These codes are not deleted for 2004, and the condition should be blank. We correct the condition on page 63490 for codes 00546, 00548, 00550, 00560, 00562, 00563, and 00566; and page 63539 for codes 47135, 47136, 47300, and 47350; and page 63619 for E0165. See Table 2—Corrections to Addendum B of the November 7, 2003, Final Rule for corrections to Addendum B for the codes identified above.

On page 63569, CPT/HCPCS 76977 was inadvertently assigned an incorrect status indicator. We remove status indicator S and insert status indicator X. The payment rates are correct as is. See Table 2—Corrections to Addendum B of the November 7, 2003, Final Rule for corrections to Addendum B for the code identified above.

On page 63590, CPT/HCPCS 92019 was assigned an incorrect status indicator. We remove status indicator S and insert status indicator T. The payment rates are correct as is. See Table 2—Corrections to Addendum B of the November 7, 2003, Final Rule for corrections to Addendum B for the code identified above.

On page 63608, CPT/HCPCS A9700 was incorrectly assigned an APC, relative weight, payment rate, and copayment. A9700 is not payable under OPPS, and no payment should be made for this service. We remove the APC, relative weight, payment rate, and minimum unadjusted copayment. See Table 2—Corrections to Addendum B of the November 7, 2003, Final Rule for corrections to Addendum B for the code identified above.

On page 63588, CPT/HCPCS codes 90296 and 90581 are incorrectly assigned a status indicator, APC, relative weight, payment rate, and copayment. Effective 1/1/04, codes 90296 and 90581 are packaged services and therefore are assigned status indicator N. For codes 90296 and 90581, we remove status indicator K, APC, payment rate, and minimum unadjusted copayment, and insert status indicator N. See Table 2—Corrections to Addendum B of the November 7, 2003, Final Rule for corrections to Addendum B for the codes identified above.

On page 63623, CPT/HCPCS code E1065 omits condition DG. This code is deleted with grace period effective January 1, 2004. We correct this by inserting DG in the condition column.

Many codes were incorrectly listed with status indicator A that should be listed with the new status indicator Y, indicating that the code is not paid under OPPS, but should be billed to the Durable Medical Equipment Regional Carrier (DMERC). They are listed in Tables 3-5. In addition, codes A4232, A4632, E0188, E0189, E0218, E0602, E0740, E0760, E0765, K0610, K0611, K0612, and K0613 were incorrectly listed with status indicator E, but should be listed with status indicator Y. Codes E0967, E0969, E0977, E0980, E0994, E0997, E0998, E0999, E1001, E1035, E1065, and E1227 were incorrectly listed with status indicator B, but should be listed with status indicator Y. For all these codes, we remove the current status indicator and insert status indicator Y. See Tables 3-5 for a list of codes for which the status indicator has changed from A, E, or B to Y.

On page 63471 of the November 7, 2002 Final Rule, we specify that HCPCS codes for drugs, biologicals, and radiopharmaceuticals that are new for 2004 yet have no predecessor will be assigned packaged status for 2004.

On pages 63608 and 63652, HCPCS codes A9526 and Q4078, respectively, were incorrectly assigned a status indicator, APC, relative weight, payment rate, and copayment. Effective 1/1/04, codes A9526 and Q4078 are packaged services and therefore are assigned status indicator N. For these codes, we remove status indicator K, APC, payment rate, and minimum unadjusted copayment, and insert status indicator N.

On page 63415 of the November 7, 2003 Final Rule, we state that we plan to delete HCPCS C1088 effective 1/1/04. Addendum B does not list this code as deleted. For HCPCS C1088, we remove status indicator T, APC, payment rate, and minimum unadjusted copayment, and insert status indicator D and condition DNG (deleted with no grace period).

III. Waiver of 30-Day Delay in Effective Date

We ordinarily provide a 30-day delay in the effective date of the provisions of a notice. Section 553(d) of the Administrative Procedure Act (5 U.S.C. 553(d)) ordinarily requires a 30-day delay in the effective date of final rules after the date of their publication in the Federal Register. This 30-day delay in effective date can be waived, however, if an agency finds good cause that the delay is impracticable, unnecessary, or contrary to the public interest. In addition, section 1871(e)(1) of the Social Security Act, as amended by section 903(b)(1) of the Medicare Prescription Drug, Improvement, and Modernization Act of 2003 (DIMA), also requires that a substantive change in a regulation shall not become effective before the end of the 30-day period that begins on the date that the Secretary has issued or published the substantive change. Section 1871(e)(1) of the Social Security Act, as amended by section 903(b)(1) of DIMA, provides an exception to that requirement if the Secretary finds that the waiver of such 30-day period is necessary to comply with statutory requirements or that the application of such 30-day period is contrary to the public interest. The agency must incorporate a statement of the good cause finding and rationale in the published rule.

In this case, we believe that it is in the public interest to make the corrections identified above effective January 1, 2004 without the 30-day delay in effective date. In most cases, these errors were the result of our inadvertent failure to address a number of public comments that were received timely, incorrect or potentially misleading responses, and omissions and typographical errors in Addenda A and B. In addition, we have added information to the addenda that was not available when we published the November 7, 2003 final rule. This information does not affect payment under the OPPS. A delay in the effective date of this notice would result, in most cases, in underpayment of hospitals beginning January 1, 2004. If we did not make these changes, hospitals would be paid improperly, and beneficiaries' access to care may be impeded. Therefore, we find good cause to waive the 30-day delay in effective date.

Table 1.—Addendum A Corrections as Corrected by This Federal Register Document
APC | Group title | Status indicator | Relative weight | Payment rate | National unadjusted copayment | Minimum unadjusted copayment
0012 | Level I Debridement & Destruction | T | 0.7612 | 41.53 | 11.18 | 8.31
0013 | Level II Debridement & Destruction | T | 1.1302 | 61.66 | 14.20 | 12.33
0108 | Insertion/Replacement/Repair of Cardioverter-Defibrillator Leads | T | 452.6995 | 24699.74 |  | 4939.95
0121 | Level I Tube changes and Repositioning | T | 2.1114 | 115.20 | 43.80 | 23.04
0123 | Bone Marrow Harvesting and Bone Marrow/Stem Cell Transplant | S | 6.1499 | 335.54 |  | 67.11
0272 | Level I Fluoroscopy | X | 1.4184 | 77.39 | 38.36 | 15.48
0321 | Biofeedback and Other Training | S | 1.4817 | 80.84 | 21.78 | 16.17
0339 | Observation | S | 6.6961 | 365.35 |  | 73.07
0373 | Neuropsychological Testing | X | 2.3288 | 127.06 |  | 25.41
0384 | GI Procedures with Stents | T | 36.5400 | 1993.66 | 433.01 | 398.73
APC 0413 is deleted
0734 | Injection, darbepoetin alfa (for non-ESRD, per 1 mcg | K | 0.0594 | 3.24 |  | 0.65
9012 | Arsenic Trioxide | K |  | 34.32 |  | .6.86
1604 | IN 111 capromab pendetide, per dose | K | 20.2752 | 1106.24 |  | 221.25

Table 2.—Addendum B Corrections as Corrected by This Federal Register Document
CPT/HCPCS | Status indicator | Condition | Description | APC | Relative weight | Payment rate | National unadjusted copayment | Minimum unadjusted copayment
0002T | C | DG | endo repair abd aa aorto uni |  |  |  |  |
00546 | C |  | Anesth, lung, chest wall surg |  |  |  |  |
00548 | N |  | Anesth, trachea, bronchi surg |  |  |  |  |
0054T | B | NI | Bone surgery using computer |  |  |  |  |
00550 | N |  | Anesth, sternal debridement |  |  |  |  |
0055T | B | NI | Bone surgery using computer |  |  |  |  |
00560 | C |  | Anesth, open heart surgery |  |  |  |  |
00562 | C |  | Anesth, open heart surgery |  |  |  |  |
00563 | N |  | Anesth, heart proc w/pump |  |  |  |  |
00566 | N |  | Anesth, cabg w/o pump |  |  |  |  |
0056T | B | NI | Bone surgery using computer |  |  |  |  |
0057T | B | NI | Uppr gi scope w/ thrml txmnt |  |  |  |  |
0060T | B | NI | Electrical impedance scan |  |  |  |  |
0061T | B | NI | Destruction of tumor, breast |  |  |  |  |
11001 | T |  | Debride infected skin add-on | 0012 | 0.7612 | 41.53 | 11.18 | 8.31
11055 | T |  | Trim skin lesion | 0012 | 0.7612 | 41.53 | 11.18 | 8.31
11056 | T |  | Trim skin lesions, 2 to 4 | 0012 | 0.7612 | 41.53 | 11.18 | 8.31
11057 | T |  | Trim skin lesions, over 4 | 0013 | 1.1302 | 61.66 | 14.20 | 12.33
11200 | T |  | Removal of skin tags | 0013 | 1.1302 | 61.66 | 14.20 | 12.33
11300 | T |  | Shave skin lesion | 0012 | 0.7612 | 41.53 | 11.18 | 8.31
11301 | T |  | Shave skin lesion | 0012 | 0.7612 | 41.53 | 11.18 | 8.31
11302 | T |  | Shave skin lesion | 0012 | 0.7612 | 41.53 | 11.18 | 8.31
11305 | T |  | Shave skin lesion | 0013 | 1.1302 | 61.66 | 14.20 | 12.33
11306 | T |  | Shave skin lesion | 0013 | 1.1302 | 61.66 | 14.20 | 12.33
11307 | T |  | Shave skin lesion | 0013 | 1.1302 | 61.66 | 14.20 | 12.33
11308 | T |  | Shave skin lesion | 0013 | 1.1302 | 61.66 | 14.20 | 12.33
11310 | T |  | Shave skin lesion | 0013 | 1.1302 | 61.66 | 14.20 | 12.33
11311 | T |  | Shave skin lesion | 0013 | 1.1302 | 61.66 | 14.20 | 12.33
11312 | T |  | Shave skin lesion | 0013 | 1.1302 | 61.66 | 14.20 | 12.33
11730 | T |  | Removal of nail plate | 0013 | 1.1302 | 61.66 | 14.20 | 12.33
11732 | T |  | Remove nail plate, add-on | 0012 | 0.7612 | 41.53 | 11.18 | 8.31
11900 | T |  | Injection into skin lesions | 0012 | 0.7612 | 41.53 | 11.18 | 8.31
11901 | T |  | Added skin lesions injection | 0012 | 0.7612 | 41.53 | 11.18 | 8.31
15786 | T |  | Abrasion, lesion, single | 0012 | 0.7612 | 41.53 | 11.18 | 8.31
15787 | T |  | Abrasion, lesions, add-on | 0013 | 1.1302 | 61.66 | 14.20 | 12.33
15788 | T |  | Chemical peel, face, epiderm | 0012 | 0.7612 | 41.53 | 11.18 | 8.31
15792 | T |  | Chemical peel, nonfacial | 0012 | 0.7612 | 41.53 | 11.18 | 8.31
15793 | T |  | Chemical peel, nonfacial | 0012 | 0.7612 | 41.53 | 11.18 | 8.31
15852 | X |  | Dressing change not for burn | 0340 | 0.6314 | 34.45 |  | 6.89
16000 | T |  | Initial treatment of burn(s) | 0012 | 0.7612 | 41.53 | 11.18 | 8.31
16020 | T |  | Treatment of burn(s) | 0013 | 1.1302 | 61.66 | 14.20 | 12.33
16025 | T |  | Treatment of burn(s) | 0012 | 0.7612 | 41.53 | 11.18 | 8.31
17250 | T |  | Chemical cautery, tissue | 0013 | 1.1302 | 61.66 | 14.20 | 12.33
17271 | T |  | Destruction of skin lesions | 0013 | 1.1302 | 61.66 | 14.20 | 12.33
17340 | T |  | Cryotherapy of skin | 0012 | 0.7612 | 41.53 | 11.18 | 8.31
17360 | T |  | Skin peel therapy | 0012 | 0.7612 | 41.53 | 11.18 | 8.31
17380 | T |  | Hair removal by electrolysis | 0012 | 0.7612 | 41.53 | 11.18 | 8.31
31502 | T |  | Change of windpipe airway | 0121 | 2.1114 | 115.20 | 43.80 | 23.04
38230 | S |  | Bone marrow collection | 0111 | 13.1719 | 718.67 | 200.18 | 143.73
38240 | S |  | Bone marrow/stem transplant | 0123 | 6.1499 | 335.54 |  | 67.11
38241 | S |  | Bone marrow/stem transplant | 0123 | 6.1499 | 335.54 |  | 67.11
43219 | T |  | Esophagus endoscopy | 0384 | 36.5400 | 1993.66 | 433.01 | 398.73
43256 | T |  | Uppr gi endoscopy w stent | 0384 | 36.5400 | 1993.66 | 433.01 | 398.73
43268 | T |  | Endo cholangiopancreatograph | 0384 | 36.5400 | 1993.66 | 433.01 | 398.73
43269 | T |  | Endo cholangiopancreatograph | 0384 | 36.5400 | 1993.66 | 433.01 | 398.73
43752 | T |  | Nasal/orogastric w/stent | 0121 | 2.1114 | 115.20 | 43.80 | 23.04
43760 | T |  | Change gastrostomy tube | 0121 | 2.1114 | 115.20 | 43.80 | 23.04
43761 | T |  | Reposition gastrostomy tube | 0121 | 2.1114 | 115.20 | 43.80 | 23.04
44370 | T |  | Small bowel endoscopy/stent | 0384 | 36.5400 | 1993.66 | 433.01 | 398.73
44379 | T |  | S bowel endoscope w/stent | 0384 | 36.5400 | 1993.66 | 433.01 | 398.73
44383 | T |  | Ileoscopy w/stent | 0384 | 36.5400 | 1993.66 | 433.01 | 398.73
44397 | T |  | Colonoscopy w/stent | 0384 | 36.5400 | 1993.66 | 433.01 | 398.73
44500 | T |  | Intro, gastrointestinal tube | 0121 | 2.1114 | 115.20 | 43.80 | 23.04
45327 | T |  | Proctosigmoidoscopy w/stent | 0384 | 36.5400 | 1993.66 | 433.01 | 398.73
45345 | T |  | Sigmoidoscopy w/stent | 0384 | 36.5400 | 1993.66 | 433.01 | 398.73
45387 | T |  | Colonoscopy w/stent | 0384 | 36.5400 | 1993.66 | 433.01 | 398.73
46916 | T |  | Cryosurgery, anal lesion(s) | 0013 | 1.1302 | 61.66 | 14.20 | 12.33
47135 | C |  | Transplantation of liver |  |  |  |  |
47136 | C |  | Transplantation of liver |  |  |  |  |
47300 | C |  | Surgery for liver lesion |  |  |  |  |
47350 | C |  | Repair liver wound |  |  |  |  |
51705 | T |  | Change of bladder tube | 0121 | 2.1114 | 115.20 | 43.80 | 23.04
54050 | T |  | Destruction, penis lesion(s) | 0013 | 1.1302 | 61.66 | 14.20 | 12.33
54056 | T |  | Cryosurgery, penis lesion(s) | 0012 | 0.7612 | 41.53 | 11.18 | 8.31
55870 | T |  | Electroejaculation | 0197 | 4.8280 | 263.42 |  | 52.68
62194 | T |  | Replace/irrigate catheter | 0121 | 2.1114 | 115.20 | 43.80 | 23.04
69220 | T |  | Clean out mastoid cavity | 0012 | 0.7612 | 41.53 | 11.18 | 8.31
70370 | X |  | Throat x-ray & fluoroscopy | 0272 | 1.4184 | 77.39 | 38.36 | 15.48
70371 | X |  | Speech evaluation, complex | 0272 | 1.4184 | 77.39 | 38.36 | 15.48
71023 | X |  | Chest x-ray and fluoroscopy | 0272 | 1.4184 | 77.39 | 38.36 | 15.48
71034 | X |  | Chest x-ray and fluoroscopy | 0272 | 1.4184 | 77.39 | 38.36 | 15.48
71090 | X |  | X-ray & pacemaker insertion | 0272 | 1.4184 | 77.39 | 38.36 | 15.48
74340 | X |  | X-ray guide for GI tube | 0272 | 1.4184 | 77.39 | 38.36 | 15.48
76000 | X |  | Fluoroscope examination | 0272 | 1.4184 | 77.39 | 38.36 | 15.48
76120 | X |  | Cine/video x-rays | 0272 | 1.4184 | 77.39 | 38.36 | 15.48
76496 | X |  | Fluoroscopic procedure | 0272 | 1.4184 | 77.39 | 38.36 | 15.48
76977 | X |  | Us bone density measure | 0340 | 0.6314 | 34.45 |  | 6.89
90296 | N |  | Diphtheria antitoxin |  |  |  |  |
90581 | N |  | Anthrax vaccine, sc |  |  |  |  |
90911 | S |  | Biofeedback peri/uro/rectal | 0321 | 1.4817 | 80.84 | 21.78 | 16.17
90918 | E |  | ESRD related services, month |  |  |  |  |
90919 | E |  | ESRD related services, month |  |  |  |  |
90920 | E |  | ESRD related services, month |  |  |  |  |
90921 | E |  | ESRD related services, month |  |  |  |  |
90922 | E |  | ESRD related services, day |  |  |  |  |
90923 | E |  | ESRD related services, day |  |  |  |  |
90924 | E |  | ESRD related services, day |  |  |  |  |
90925 | E |  | ESRD related services, day |  |  |  |  |
92019 | T |  | Eye exam & treatment | 0699 | 2.2303 | 121.69 | 47.46 | 24.34
96100 | X |  | Psychological testing | 0373 | 2.3288 | 127.06 |  | 25.41
96110 | X |  | Developmental test, lim | 0373 | 2.3288 | 127.06 |  | 25.41
96111 | X |  | Developmental test, extend | 0373 | 2.3288 | 127.06 |  | 25.41
96115 | X |  | Neurobehavior status exam | 0373 | 2.3288 | 127.06 |  | 25.41
96117 | X |  | Neuropsych test battery | 0373 | 2.3288 | 127.06 |  | 25.41
96920 | T |  | Laser tx, skin < 250 sq cm | 0012 | 0.7612 | 41.53 | 11.18 | 8.31
96921 | T |  | Laser tx, skin 250-500 sq cm | 0012 | 0.7612 | 41.53 | 11.18 | 8.31
96922 | T |  | Laser tx, skin > 500 sq cm | 0013 | 1.1302 | 61.66 | 14.20 | 12.33
99002 | B |  | Device handling |  |  |  |  |
99140 | B |  | Emergency anesthesia |  |  |  |  |
99375 | E |  | Home health care supervision |  |  |  |  |
99378 | E |  | Hospice care supervision |  |  |  |  |
A4671 | B | NI | Disposable cycler set |  |  |  |  |
A4672 | B | NI | Drainage ext line, dialysis |  |  |  |  |
A4673 | B | NI | Ext line w easy lock connect |  |  |  |  |
A4674 | B | NI | Chem/antisept solution, 8oz |  |  |  |  |
A4728 | B | NI | Dialysate solution, non-dex |  |  |  |  |
A9507 | K |  | Indium/111 capromab pendetid | 1604 | 20.2752 | 1106.24 |  | 221.25
A9526 | N | NI | Ammonia N-13, per dose |  |  |  |  |
A9527 | D | DNG | I-131 tositumomab therapeut |  |  |  |  |
A9700 | E |  | Echocardiography Contrast |  |  |  |  |
C1088 | D | DNG | Laser Optic Tr Sys |  |  |  |  | 0.65
C1774 | K | DG | Darbepoetin alfa, 1 mcg | 0734 | 0.0594 | 3.24 |  |
E0141 | Y |  | Rigid wheeled walker adj/fix |  |  |  |  |
E0165 | A |  | Commode chair stationry det |  |  |  |  |
E0973 | B |  | W/Ch access det adj armrest |  |  |  |  |
E0974 | B |  | W/Ch access anti-rollback |  |  |  |  |
E0978 | B |  | W/C acc,saf belt pelv strap |  |  |  |  |
E1065 | B | DG | Wheelchair power attachment |  |  |  |  |
E1226 | B |  | W/C access fully reclineback |  |  |  |  |
E1634 | B | NI | Peritoneal dialysis clamp |  |  |  |  |
G0210 | S |  | PET img wholebody dxlung |  |  | 1450.00 |  | 290.00
G0213 | S |  | PET img wholbody dx |  |  | 1450.00 |  | 290.00
G0214 | S |  | PET img wholebod init |  |  | 1450.00 |  | 290.00
G0215 | S |  | PETimg wholebod restag |  |  | 1450.00 |  | 290.00
G0230 | S |  | PET myocard viability post |  |  | 1450.00 |  | 290.00
G0244 | S |  | Observ care by facility topt | 0339 | 6.6961 | 365.35 |  | 73.07
G0246 | V |  | Followup eval of foot pt lop | 0600 | 0.9278 | 50.62 |  | 10.12
G0247 | T |  | Routine footcare pt w lops | 0009 | 0.6652 | 36.29 | 8.34 | 7.26
G0248 | S |  | Demonstrate use home inr mon | 1503 |  | 150.00 |  | 30.00
G0272 | X | DG | Naso/oro gastric tube pl MD | 0272 | 1.4184 | 77.39 | 38.36 | 15.48
G0299 | T | NF | Inser/repos single icd+leads | 0108 | 452.6995 | 24699.74 |  | 4939.95
G0300 | T | NF | Insert reposit lead dual+gen | 0108 | 452.6995 | 24699.74 |  | 4939.95
G0308 | A | NI | ESRD related svc 4+mo<2yrs |  |  |  |  |
G0309 | A | NI | ESRD related svc 2-3mo<2yrs |  |  |  |  |
G0310 | A | NI | ESRD related svc 1vst<2yr |  |  |  |  |
G0311 | A | NI | ESRD related svs 4+mo 2-11 yr |  |  |  |  |
G0312 | A | NI | ESRD relate svs 2-3 mo 2-11 y |  |  |  |  |
G0313 | A | NI | ESRD related svs 1 mon 2-11 y |  |  |  |  |
G0314 | A | NI | ESRD related svs 4+mo 12-19 |  |  |  |  |
G0315 | A | NI | ESRD related svs 2-3 mo 12-19 |  |  |  |  |
G0316 | A | NI | ESRD related svs 1 vis/ 12-19y |  |  |  |  |
G0317 | A | NI | ESRD related svs 4+mo 20+yrs |  |  |  |  |
G0318 | A | NI | ESRD related svs 2-3 mo 20+y |  |  |  |  |
G0319 | A | NI | ESRD related svs 1 visit 20+y |  |  |  |  |
G0320 | A | NI | ESRD related svs home undr 2 |  |  |  |  |
G0321 | A | NI | ESRD related svs home mo<2ys |  |  |  |  |
G0322 | A | NI | ESRD related svs hom mo12-19 |  |  |  |  |
G0328 | A | NI | Fecal blood scrn immunoassay |  |  |  |  |
J1563 | K |  | IV immune globulin | 0905 | 0.8057 | 43.96 |  | 8.79
J2260 | K |  | Inj milrinone lactate/5 MG | 7007 | 0.2129 | 11.62 |  | 2.32
J2324 | G |  | Nesiritide | 9114 |  | 151.62 |  | 22.66
J7330 | B |  | Cultured chondrocytes implnt |  |  |  |  |
J8700 | K |  | Temozolomide | 1086 | 0.0690 | 3.76 |  | 0.75
J9017 | K |  | Arsenic trioxide | 9012 |  | 34.32 |  | 6.86
K0560 | N | DG | MCP joint 2-piece for implnt |  |  |  |  |
K0600 | Y | NF | Functional neuromuscularstim |  |  |  |  |
K0607 | Y | NF | Repl batt for AED |  |  |  |  |
K0614 | Y | DG | Chem/antisept solution, 8oz |  |  |  |  |
K0615 | Y | DG | SGD prerec mes >8min <=20min |  |  |  |  |
K0616 | Y | DG | SGD prerec mes>20min <=40min |  |  |  |  |
K0617 | Y | DG | SGD prerec mes > 40min |  |  |  |  |
L3350 | B |  | Shoe heel wedge |  |  |  |  |
L4350 | A |  | Ankle control orthosi prefab |  |  |  |  |
L4360 | A |  | Pneumati walking boot prefab |  |  |  |  |
L4386 | A |  | Non-pneum walk boot prefab |  |  |  |  |
L5646 | A |  | Below knee cushion socket |  |  |  |  |
L5648 | A |  | Above knee cushion socket |  |  |  |  |
P9603 | A |  | One-way allow prorated miles |  |  |  |  |
Q0137 | K | NI | Darbepoetin alfa, non esrd | 0734 | 0.0594 | 3.24 |  | 0.65
Q4078 | N | DG | Ammonia N-13, per dose |  |  |  |  |
V2761 | B | NI | Mirror coating |  |  |  |  |

Table 3.— HCPCS With Status Indicators That Changed From B to Y
CPT/ HCPCS | Description
E0967 | Wheelchair hand rims.
E0969 | Wheelchair narrowing device.
E0977 | Wheelchair wedge cushion.
E0980 | Wheelchair safety vest.
E0994 | Wheelchair arm rest.
E0997 | Wheelchair caster w/ a fork.
E0998 | Wheelchair caster w/o a fork.
E0999 | Wheelchr pneumatic tire w/wh.
E1001 | Wheelchair wheel.
E1035 | Patient transfer system.
E1065 | Wheelchair power attachment.
E1227 | Wheelchair spec sz spec ht a.

Table 4.—HCPCS With Status Indicators That Changed From A to Y.
CPT/HCPCS | Description
A4221 | Maint drug infus cath per wk.
A4222 | Drug infusion pump supplies.
A4230 | Infus insulin pump non needle.
A4231 | Infusion insulin pump needle.
A4253 | Blood glucose/reagent strips.
A4254 | Battery for glucose monitor.
A4255 | Glucose monitor platforms.
A4256 | Calibrator solution/chips.
A4257 | Replace Lensshield Cartridge.
A4258 | Lancet device each.
A4259 | Lancets per box.
A4265 | Paraffin.
A4556 | Electrodes, pair.
A4557 | Lead wires, pair.
A4558 | Conductive paste or gel.
A4595 | TENS suppl 2 lead per month.
A4608 | Transtracheal oxygen cath.
A4609 | Trach suction cath clsed sys.
A4610 | Trach sctn cath 72h clsedsys.
A4611 | Heavy duty battery.
A4612 | Battery cables.
A4613 | Battery charger.
A4615 | Cannula nasal.
A4616 | Tubing (oxygen) per foot.
A4617 | Mouth piece.
A4618 | Breathing circuits.
A4619 | Face tent.
A4620 | Variable concentration mask.
A4621 | Tracheotomy mask or collar.
A4624 | Tracheal suction tube.
A4628 | Oropharyngeal suction cath.
A4630 | Repl bat t.e.n.s. own by pt.
A4631 | Wheelchair battery.
A4633 | Uvl replacement bulb.
A4635 | Underarm crutch pad.
A4636 | Handgrip for cane etc.
A4637 | Repl tip cane/crutch/walker.
A4639 | Infrared ht sys replcmnt pad.
A4640 | Alternating pressure pad.
A7000 | Disposable canister for pump.
A7001 | Nondisposable pump canister.
A7002 | Tubing used w suction pump.
A7003 | Nebulizer administration set.
A7004 | Disposable nebulizer sml vol.
A7005 | Nondisposable nebulizer set.
A7006 | Filtered nebulizer admin set.
A7007 | Lg vol nebulizer disposable.
A7008 | Disposable nebulizer prefill.
A7009 | Nebulizer reservoir bottle.
A7010 | Disposable corrugated tubing.
A7011 | Nondispos corrugated tubing.
A7012 | Nebulizer water collec devic.
A7013 | Disposable compressor filter.
A7014 | Compressor nondispos filter.
A7015 | Aerosol mask used w nebulize.
A7016 | Nebulizer dome & mouthpiece.
A7017 | Nebulizer not used w oxygen.
A7018 | Water distilled w/nebulizer.
A7019 | Saline solution dispenser.
A7020 | Sterile H2O or NSS w lgv neb.
A7025 | Replace chest compress vest.
A7026 | Replace chst cmprss sys hose.
A7030 | CPAP full face mask.
A7031 | Replacement facemask interfa.
A7032 | Replacement nasal cushion.
A7033 | Replacement nasal pillows.
A7034 | Nasal application device.
A7035 | Pos airway press headgear.
A7036 | Pos airway press chinstrap.
A7037 | Pos airway pressure tubing.
A7038 | Pos airway pressure filter.
A7039 | Filter, non disposable w pap.
A7044 | PAP oral interface.
E0100 | Cane adjust/fixed with tip.
E0105 | Cane adjust/fixed quad/3 pro.
E0110 | Crutch forearm pair.
E0111 | Crutch forearm each.
E0112 | Crutch underarm pair wood.
E0113 | Crutch underarm each wood.
E0114 | Crutch underarm pair no wood.
E0116 | Crutch underarm each no wood.
E0117 | Underarm springassist crutch.
E0130 | Walker rigid adjust/fixed ht.
E0135 | Walker folding adjust/fixed.
E0141 | Rigid wheeled walker adj/fix.
E0142 | Walker rigid wheeled with se.
E0143 | Walker folding wheeled w/o s.
E0144 | Enclosed walker w rear seat.
E0145 | Walker whled seat/crutch att.
E0146 | Folding walker wheels w seat.
E0147 | Walker variable wheel resist.
E0148 | Heavyduty walker no wheels.
E0149 | Heavy duty wheeled walker.
E0153 | Forearm crutch platform atta.
E0154 | Walker platform attachment.
E0155 | Walker wheel attachment, pair.
E0156 | Walker seat attachment.
E0157 | Walker crutch attachment.
E0158 | Walker leg extenders set of 4.
E0159 | Brake for wheeled walker.
E0160 | Sitz type bath or equipment.
E0161 | Sitz bath/equipment w/faucet.
E0162 | Sitz bath chair.
E0163 | Commode chair stationry fxd.
E0164 | Commode chair mobile fixed a.
E0165 | Commode chair stationry det.
E0166 | Commode chair mobile detach.
E0167 | Commode chair pail or pan.
E0168 | Heavyduty/wide commode chair.
E0169 | Seatlift incorp commodechair.
E0175 | Commode chair foot rest.
E0176 | Air pressre pad/cushion nonp.
E0177 | Water press pad/cushion nonp.
E0178 | Gel pressre pad/cushion nonp.
E0179 | Dry pressre pad/cushion nonp.
E0180 | Press pad alternating w pump.
E0181 | Press pad alternating w/pump.
E0182 | Pressure pad alternating pump.
E0184 | Dry pressure mattress.
E0185 | Gel pressure mattress pad.
E0186 | Air pressure mattress.
E0187 | Water pressure mattress.
E0191 | Protector heel or elbow.
E0192 | Pad wheelchr low press/posit.
E0193 | Powered air flotation bed.
E0194 | Air fluidized bed.
E0196 | Gel pressure mattress.
E0197 | Air pressure pad for mattress.
E0198 | Water pressure pad for mattr.
E0199 | Dry pressure pad for mattress.
E0200 | Heat lamp without stand.
E0202 | Phototherapy light w/photom.
E0205 | Heat lamp with stand.
E0210 | Electric heat pad standard.
E0215 | Electric heat pad moist.
E0217 | Water circ heat pad w/pump.
E0220 | Hot water bottle.
E0221 | Infrared heating pad system.
E0225 | Hydrocollator unit.
E0230 | Ice cap or collar.
E0235 | Paraffin bath unit portable.
E0236 | Pump for water circulating p.
E0238 | Heat pad non-electric moist.
E0239 | Hydrocollator unit portable.
E0249 | Pad water circulating heat u.
E0250 | Hosp bed fixed ht w/mattress.
E0251 | Hosp bed fixed ht w/o mattress.
E0255 | Hospital bed var ht w/mattress.
E0256 | Hospital bed var ht w/o matt.
E0260 | Hosp bed semi-electr w/matt.
E0261 | Hosp bed semi-electr w/o matt.
E0265 | Hosp bed total electr w/matt.
E0266 | Hosp bed total elec w/o matt.
E0271 | Mattress innerspring.
E0272 | Mattress foam rubber.
E0275 | Bed pan standard.
E0276 | Bed pan fracture.
E0277 | Powered pres-redu air mattrs.
E0280 | Bed cradle.
E0290 | Hosp bed fx ht w/o rails w/m.
E0291 | Hosp bed fx ht w/o rail w/o.
E0292 | Hosp bed var ht w/o rail w/o.
E0293 | Hosp bed var ht w/o rail w/.
E0294 | Hosp bed semi-elect w/ mattrs.
E0295 | Hosp bed semi-elect w/o matt.
E0296 | Hosp bed total elect w/matt.
E0297 | Hosp bed total elect w/o matt.
E0305 | Rails bed side half length.
E0310 | Rails bed side full length.
E0316 | Bed safety enclosure.
E0325 | Urinal male jug-type.
E0326 | Urinal female jug-type.
E0371 | Nonpower mattress overlay.
E0372 | Powered air mattress overlay.
E0373 | Nonpowered pressure mattress.
E0424 | Stationary compressed gas 02.
E0431 | Portable gaseous 02.
E0434 | Portable liquid 02.
E0439 | Stationary liquid 02.
E0441 | Oxygen contents, gaseous.
E0442 | Oxygen contents, liquid.
E0443 | Portable 02 contents, gas.
E0444 | Portable 02 contents, liquid.
E0450 | Volume vent stationary/porta.
E0454 | Pressure ventilator.
E0455 | Oxygen tent excl croup/ped t.
E0457 | Chest shell.
E0459 | Chest wrap.
E0460 | Neg press vent portabl/statn.
E0461 | Vol vent noninvasive interfa.
E0462 | Rocking bed w/ or w/o side r.
E0480 | Percussor elect/pneum home m.
E0482 | Cough stimulating device.
E0483 | Chest compression gen system.
E0484 | Non-elec oscillatory pep dvc.
E0500 | Ippb all types.
E0550 | Humidif extens supple w ippb.
E0555 | Humidifier for use w/ regula.
E0560 | Humidifier supplemental w/ I.
E0565 | Compressor air power source.
E0570 | Nebulizer with compression.
E0571 | Aerosol compressor for svneb.
E0572 | Aerosol compressor adjust pr.
E0574 | Ultrasonic generator w svneb.
E0575 | Nebulizer ultrasonic.
E0580 | Nebulizer for use w/ regulat.
E0585 | Nebulizer w/ compressor & he.
E0590 | Dispensing fee dme neb drug.
E0600 | Suction pump portab hom modl.
E0601 | Cont airway pressure device.
E0605 | Vaporizer room type.
E0606 | Drainage board postural.
E0607 | Blood glucose monitor home.
E0610 | Pacemaker monitr audible/vis.
E0615 | Pacemaker monitr digital/vis.
E0617 | Automatic ext defibrillator.
E0620 | Cap bld skin piercing laser.
E0621 | Patient lift sling or seat.
E0627 | Seat lift incorp lift-chair.
E0628 | Seat lift for pt furn-electr.
E0629 | Seat lift for pt furn-non-el.
E0630 | Patient lift hydraulic.
E0635 | Patient lift electric.
E0636 | PT support & positioning sys.
E0650 | Pneuma compresor non-segment.
E0651 | Pneum compressor segmental.
E0652 | Pneum compres w/cal pressure.
E0655 | Pneumatic appliance half arm.
E0660 | Pneumatic appliance full leg.
E0665 | Pneumatic appliance full arm.
E0666 | Pneumatic appliance half leg.
E0667 | Seg pneumatic appl full leg.
E0668 | Seg pneumatic appl full arm.
E0669 | Seg pneumatic appli half leg.
E0671 | Pressure pneum appl full leg.
E0672 | Pressure pneum appl full arm.
E0673 | Pressure pneum appl half leg.
E0691 | Uvl pnl 2 sq ft or less.
E0692 | Uvl sys panel 4 ft.
E0693 | Uvl sys panel 6 ft.
E0694 | Uvl md cabinet sys 6 ft.
E0701 | Helmet w face guard prefab.
E0720 | Tens two lead.
E0730 | Tens four lead.
E0731 | Conductive garment for tens/.
E0744 | Neuromuscular stim for scoli.
E0745 | Neuromuscular stim for shock.
E0747 | Elec osteogen stim not spine.
E0748 | Elec osteogen stim spinal.
E0776 | Iv pole.
E0779 | Amb infusion pump mechanical.
E0780 | Mech amb infusion pump <8hrs.
E0781 | External ambulatory infus pu.
E0784 | Ext amb infusn pump insulin.
E0791 | Parenteral infusion pump sta.
E0840 | Tract frame attach headboard.
E0850 | Traction stand free standing.
E0855 | Cervical traction equipment.
E0860 | Tract equip cervical tract.
E0870 | Tract frame attach footboard.
E0880 | Trac stand free stand extrem.
E0890 | Traction frame attach pelvic.
E0900 | Trac stand free stand pelvic.
E0910 | Trapeze bar attached to bed.
E0920 | Fracture frame attached to b.
E0930 | Fracture frame free standing.
E0935 | Exercise device passive moti.
E0940 | Trapeze bar free standing.
E0941 | Gravity assisted traction de.
E0942 | Cervical head harness/halter.
E0943 | Cervical pillow.
E0944 | Pelvic belt/harness/boot.
E0945 | Belt/harness extremity.
E0946 | Fracture frame dual w cross.
E0947 | Fracture frame attachmnts pe.
E0948 | Fracture frame attachmnts ce.
E0962 | Wheelchair 1 inch cushion.
E0963 | Wheelchair 2 inch cushion.
E0964 | Wheelchair 3 inch cushion.
E0965 | Wheelchair 4 inch cushion.
E0968 | Wheelchair commode seat.
E1011 | Ped wc modify width adjustm.
E1012 | Int seat sys planar ped w/c.
E1013 | Int seat sys contour ped w/c.
E1014 | Reclining back add ped w/c.
E1015 | Shock absorber for man w/c.
E1016 | Shock absorber for power w/c.
E1017 | HD shck absrbr for hd man wc.
E1018 | HD shck absrber for hd powwc.
E1020 | Residual limb support system.
E1025 | Pedwc lat/thor sup nocontour.
E1026 | Pedwc contoured lat/thor sup.
E1027 | Ped wc lat/ant support.
E1031 | Rollabout chair with casters.
E1037 | Transport chair, ped size.
E1038 | Transport chair, adult size.
E1210 | Whlchr moto ful arm leg rest.
E1211 | Wheelchair motorized w/ det.
E1225 | Wheelchair spec sz semi-recl.
E1228 | Wheelchair spec sz spec ht b.
E1230 | Power operated vehicle.
E1231 | Rigid ped w/c tilt-in-space.
E1232 | Folding ped wc tilt-in-space.
E1233 | Rig ped wc tltnspc w/o seat.
E1234 | Fld ped wc tltnspc w/o seat.
E1235 | Rigid ped wc adjustable.
E1236 | Folding ped wc adjustable.
E1237 | Rgd ped wc adjstabl w/o seat.
E1238 | Fld ped wc adjstabl w/o seat.
E1296 | Wheelchair special seat heig.
E1297 | Wheelchair special seat dept.
E1298 | Wheelchair spec seat depth/w.
E1310 | Whirlpool non-portable.
E1340 | Repair for DME, per 15 min.
E1353 | Oxygen supplies regulator.
E1355 | Oxygen supplies stand/rack.
E1372 | Oxy suppl heater for nebuliz.
E1390 | Oxygen concentrator.
E1405 | O2/water vapor enrich w/heat.
E1406 | O2/water vapor enrich w/o he.
E1700 | Jaw motion rehab system.
E1701 | Repl cushions for jaw motion.
E1702 | Repl measr scales jaw motion.
E1800 | Adjust elbow ext/flex device.
E1801 | SPS elbow device.
E1802 | Adjst forearm pro/sup device.
E1805 | Adjust wrist ext/flex device.
E1806 | SPS wrist device.
E1810 | Adjust knee ext/flex device.
E1811 | SPS knee device.
E1815 | Adjust ankle ext/flex device.
E1816 | SPS ankle device.
E1818 | SPS forearm device.
E1820 | Soft interface material.
E1821 | Replacement interface SPSD.
E1825 | Adjust finger ext/flex devc.
E1830 | Adjust toe ext/flex device.
E1840 | Adj shoulder ext/flex device.
E2000 | Gastric suction pump hme mdl.
E2100 | Bld glucose monitor w voice.
E2101 | Bld glucose monitor w lance.
K0001 | Standard wheelchair.
K0002 | Stnd hemi (low seat) whlchr.
K0003 | Lightweight wheelchair.
K0004 | High strength ltwt whlchr.
K0005 | Ultralightweight wheelchair.
K0006 | Heavy duty wheelchair.
K0007 | Extra heavy duty wheelchair.
K0009 | Other manual wheelchair/base.
K0010 | Stnd wt frame power whlchr.
K0011 | Stnd wt pwr whlchr w control.
K0012 | Ltwt portbl power whlchr.
K0014 | Other power whlchr base.
K0015 | Detach non-adjus hght armrst.
K0016 | Detach adjust armrst cmplete.
K0017 | Detach adjust armrest base.
K0018 | Detach adjust armrst upper.
K0019 | Arm pad each.
K0020 | Fixed adjust armrest pair.
K0022 | Reinforced back upholstery.
K0023 | Planr back insrt foam w/strp.
K0024 | Plnr back insrt foam w/hrdwr.
K0025 | Hook-on headrest extension.
K0026 | Back upholst lgtwt whlchr.
K0027 | Back upholst other whlchr.
K0028 | Manual fully reclining back.
K0029 | Reinforced seat upholstery.
K0030 | Solid plnr seat sngl dnsfoam.
K0031 | Safety belt/pelvic strap.
K0032 | Seat uphols lgtwt whlchr.
K0033 | Seat upholstery other whlchr.
K0035 | Heel loop with ankle strap.
K0036 | Toe loop each.
K0037 | High mount flip-up footrest.
K0038 | Leg strap each.
K0039 | Leg strap h style each.
K0040 | Adjustable angle footplate.
K0041 | Large size footplate each.
K0042 | Standard size footplate each.
K0043 | Ftrst lower extension tube.
K0044 | Ftrst upper hanger bracket.
K0045 | Footrest complete assembly.
K0046 | Elevat legrst low extension.
K0047 | Elevat legrst up hangr brack.
K0048 | Elevate legrest complete.
K0049 | Calf pad each.
K0050 | Ratchet assembly.
K0051 | Cam relese assem ftrst/lgrst.
K0052 | Swingaway detach footrest.
K0053 | Elevate footrest articulate.
K0054 | Seat wdth 10-12/15/17/20 wc.
K0055 | Seat dpth 15/17/18 ltwt wc.
K0056 | Seat ht <17 or >=21 ltwt wc.
K0057 | Seat wdth 19/20 hvy dty wc.
K0058 | Seat dpth 17/18 power wc.
K0059 | Plastic coated handrim each.
K0060 | Steel handrim each.
K0061 | Aluminum handrim each.
K0062 | Handrim 8-10 vert/obliq proj.
K0063 | Hndrm 12-16 vert/obliq proj.
K0064 | Zero pressure tube flat free.
K0065 | Spoke protectors.
K0066 | Solid tire any size each.
K0067 | Pneumatic tire any size each.
K0068 | Pneumatic tire tube each.
K0069 | Rear whl complete solid tire.
K0070 | Rear whl compl pneum tire.
K0071 | Front castr compl pneum tire.
K0072 | Frnt cstr cmpl sem-pneum tir.
K0073 | Caster pin lock each.
K0074 | Pneumatic caster tire each.
K0075 | Semi-pneumatic caster tire.
K0076 | Solid caster tire each.
K0077 | Front caster assem complete.
K0078 | Pneumatic caster tire tube.
K0079 | Wheel lock extension pair.
K0080 | Anti-rollback device pair.
K0081 | Wheel lock assembly complete.
K0082 | 22 nf deep cycl acid battery.
K0083 | 22 nf gel cell battery each.
K0084 | Grp 24 deep cycl acid battry.
K0085 | Group 24 gel cell battery.
K0086 | U-1 lead acid battery each.
K0087 | U-1 gel cell battery each.
K0088 | Battry chrgr acid/gel cell.
K0089 | Battery charger dual mode.
K0090 | Rear tire power wheelchair.
K0091 | Rear tire tube power whlchr.
K0092 | Rear assem cmplt powr whlchr.
K0093 | Rear zero pressure tire tube.
K0094 | Wheel tire for power base.
K0095 | Wheel tire tube each base.
K0096 | Wheel assem powr base complt.
K0097 | Wheel zero presure tire tube.
K0098 | Drive belt power wheelchair.
K0099 | Pwr wheelchair front caster.
K0100 | Amputee adapter pair.
K0102 | Crutch and cane holder.
K0103 | Transfer board < 25″.
K0104 | Cylinder tank carrier.
K0105 | Iv hanger.
K0106 | Arm trough each.
K0107 | Wheelchair tray.
K0108 | W/c component-accessory NOS.
K0114 | Whlchr back suprt inr frame.
K0115 | Back module orthotic system.
K0116 | Back & seat modul orthot sys.
K0195 | Elevating whlchair leg rests.
K0268 | Humidifier nonheated w PAP.
K0452 | Wheelchair bearings.
K0455 | Pump uninterrupted infusion.
K0460 | WC power add-on joystick.
K0461 | WC power add-on tiller cntrl.
K0462 | Temporary replacement eqpmnt.
K0531 | Heated humidifier used w pap.
K0532 | Noninvasive assist wo backup.
K0533 | Noninvasive assist w backup.
K0534 | Invasive assist w backup.
K0538 | Neg pressure wnd thrpy pump.
K0539 | Neg pres wnd thrpy dsg set.
K0540 | Neg pres wnd thrp canister.
K0541 | SGD prerecorded msg <= 8 min.
K0542 | SGD prerecorded msg > 8 min.
K0543 | SGD msg formed by spelling.
K0544 | SGD w multi methods msg/accs.
K0545 | SGD sftwre prgrm for PC/PDA.
K0546 | SGD accessory, mounting systm.
K0547 | SGD accessory NOC.
K0549 | Hosp bed hvy dty xtra wide.
K0550 | Hosp bed xtra hvy dty x wide.
L3964 | Seo mobile arm sup att to wc.
L3965 | Arm supp att to wc rancho ty.
L3966 | Mobile arm supports reclinin.
L3968 | Friction dampening arm supp.
L3969 | Monosuspension arm/hand supp.
L3970 | Elevat proximal arm support.
L3972 | Offset/lat rocker arm w/ ela.
L3974 | Mobile arm support supinator.

Table 5.—HCPCS With Status Indicators That Changed From E to Y
CPT/HCPCS | Description
A4232 | Syringe w/needle insulin 3cc.
A4632 | Infus pump rplcemnt battery.
E0188 | Synthetic sheepskin pad.
E0189 | Lambswool sheepskin pad.
E0218 | Water circ cold pad w pump.
E0602 | Manual breast pump.
E0740 | Incontinence treatment systm.
E0760 | Osteogen ultrasound stimltor.
E0765 | Nerve stimulator for tx n&v.
K0610 | Peritoneal dialysis clamp.
K0611 | Disposable cycler set.
K0612 | Drainage ext line, dialysis.
K0613 | Ext line w/easy lock connect.
K0614 | Chem/antisept solution, 8oz.

(Catalog of Federal Domestic Assistance Program No. 93.773, Medicare—Hospital Insurance; and Program No. 93.774, Medicare—Supplementary Medical Insurance Program)

Dated: December 22, 2003.
Ann C. Agnew,
Executive Secretary to the Department.

[FR Doc. 03-32016 Filed 12-24-03; 1:03 pm]

BILLING CODE 4120-01-P